DEPARTMENT OF TRANSPORTATION

Federal Aviation Administration

14 CFR Part 39

[Docket No. 2002-SW-39-AD; Amendment 39-13237; AD 2003-14-18]

RIN 2120-AA64

Airworthiness Directives; Sikorsky Aircraft Corporation Model S76A, B, and C Helicopters

AGENCY: Federal Aviation Administration, DOT.

ACTION: Final rule.

SUMMARY: This amendment adopts a new airworthiness directive (AD) for the specified Sikorsky Aircraft Corporation (Sikorsky) model helicopters that requires removing non-conforming main landing gear brake discs (discs) and replacing them with different part-numbered airworthy discs. It also requires revising the Rotorcraft Flight Manual (RFM) to adjust takeoff and landing distances until the discs are replaced. This amendment is prompted by the manufacture of some discs using inferior materials. The actions specified by this AD are intended to prevent reduced braking performance and subsequent loss of control of the helicopter.

DATES: Effective August 25, 2003.

The incorporation by reference of certain publications listed in the regulations is approved by the Director of the Federal Register as of August 25, 2003.

ADDRESSES: The service information referenced in this AD may be obtained from Sikorsky Aircraft Corporation, Attn: Manager, Commercial Tech Support, 6900 Main Street, Stratford, Connecticut 06614, phone (203) 386-3001, fax (203) 386-5983. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Terry Fahr, Aviation Safety Engineer, Boston Aircraft Certification Office, 12 New England Executive Park, Burlington, MA 01803, telephone (781) 238-7155, fax (781) 238-7199.

SUPPLEMENTARY INFORMATION: A proposal to amend 14 CFR part 39 to include an AD for Sikorsky Model S76A, B, and C helicopters was published in the Federal Register on February 7, 2003 (68 FR 6382). That action proposed to require, within 60 days, determining if discs, part number (P/N) 5014067, are installed. If so, replacing them with discs, P/N 5007672, and re-identifying brake assembly, P/N 5007555 and P/N 5007555-1, as brake assembly P/N 5007555-3, and brake assembly, P/N 5007555-2, as brake assembly, P/N 5007555-4, was proposed to be required within 90 days. The action also proposed to require revising the RFM to adjust the Category A rejected takeoff distance, the Category A landing distance, and the Category B landing distance by multiplying the distance by 1.67 to obtain the corrected distance until the discs are replaced.

Sikorsky has issued Alert Service Bulletin (ASB) No. 76-32-27, dated April 30, 2002, which contains Aircraft Braking Systems Corporation ASB S76-32-A24, dated April 10, 2002; and Sikorsky Aircraft Corporation ASB No. 76-32-28, dated May 17, 2002, which contains Aircraft Braking Systems Corporation ASB S76-32-A25, dated May 15, 2002. The ASBs describe procedures for replacing any non-conforming discs, reidentifying brake assemblies, and revising takeoff and landing distances in the RFM until the discs are replaced.

Interested persons have been afforded an opportunity to participate in the making of this amendment. Due consideration has been given to the comment received.

The one commenter, the manufacturer, states that the AD should state that a manufacturer's warranty exists. The commenter states that the service information issued by Aircraft Braking Systems Corporation states that the replacement discs, P/N 5007672, are available at no cost to the owners or operators. The FAA agrees, and that information is added to the economic impact paragraph of the AD.

After careful review of the available data, including the comments noted above, the FAA has determined that air safety and the public interest require the adoption of the rule with the change described previously. The FAA has determined that this change will neither increase the economic burden on any operator nor increase the scope of the AD.

On July 10, 2002, the FAA issued a new version of 14 CFR part 39 (67 FR 47997, July 22, 2002), which governs the FAA's AD system. The regulation now includes material that relates to altered products, special flight permits, and alternative methods of compliance. However, for clarity and consistency in this final rule, we have retained the language of the NPRM regarding that material.

The FAA estimates that 180 helicopters of U.S. registry will be affected by this AD, that it will take approximately 0.5 work hour per helicopter to determine if non-conforming discs are installed, and 1.25 work hours per helicopter to remove, replace and re-identify any non-conforming discs. The average labor rate is $60 per work hour. Required parts will cost approximately $1,902 per disc, and there are two discs per helicopter. The Aircraft Braking Systems Corporation ASB's state that “operators should contact their usual supply source for replacement of 5014067 Rotating Discs with free of charge 5007672 Rotating Discs on an exchange basis.” Based on these figures, the total cost impact of this AD on U.S. operators is estimated to be $703,620 ($18,900 assuming brake discs are provided free of charge) to replace the discs throughout the fleet.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-14-18 Sikorsky Aircraft Corporation: Amendment 39-13237. Docket No. 2002-SW-39-AD.

Applicability: Model S76A, B, and C helicopters, with main landing gear brake assembly (brake assembly), part number (P/N) 5007555, 5007555-1, or 5007555-2 installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent reduced braking performance and subsequent loss of control of the helicopter, accomplish the following:

(a) Within 60 days, determine if a main landing gear brake disc (disc), part number (P/N) 5014067, is installed in the braking assembly in accordance with:

(1) Section III—Accomplishment Instructions, paragraph 1.A. through 1.D., of Aircraft Braking Systems Corporation Alert Service Bulletin S76-32-A24, dated April 10, 2002 (ASB A24) for braking assembly, P/N 5007555 and P/N 5007555-1, and

(2) Section III—Accomplishment Instructions, paragraph 1.A. and 1.B., of Aircraft Braking Systems Corporation Alert Service Bulletin S76-32-A25, dated May 15, 2002 (ASB A25), for braking assembly, P/N 5007555-2.

(b) If disc, P/N 5014067, is installed, within 90 days, remove that disc and replace it with disc, P/N 5007672, and re-identify:

(1) Brake assembly, P/N 5007555 and P/N 5007555-1, as brake assembly, P/N 5007555-3, in accordance with the conversion of brake assembly instructions on page 6 of ASB A24, and

(2) Brake assembly, P/N 5007555-2, as brake assembly, P/N 5007555-4, in accordance with the conversion of brake assembly instructions on page 6 of ASB A25.

Note 2: Sikorsky Aircraft Corporation ASB No. 76-32-27, dated April 30, 2002, contains Aircraft Braking Systems Corporation ASB S76-32-A24, dated April 10, 2002, and Sikorsky Aircraft Corporation ASB No. 76-32-28, dated May 17, 2002, contains Aircraft Braking Systems Corporation ASB S76-32-A25, dated May 15, 2002.

(c) Until all installed discs, P/N 5014067, on the helicopter are replaced with disc, P/N 5007672, and all brake assemblies are re-identified in accordance with paragraph (b) of this AD, before further flight, increase the Category A—Rejected Takeoff Distance, the Category A—Landing Distance, and the Category B—Landing Distance as stated in the current Rotorcraft Flight Manual (RFM) by multiplying these rejected takeoff and landing distances by a factor of 1.67.

Note 3: There are temporary revisions to the RFM available from the helicopter manufacturer that documents increased rejected takeoff and landing distances.

(d) An alternative method of compliance or adjustment of the compliance time that provides an acceptable level of safety may be used if approved by the Manager, Boston Aircraft Certification Office, Engine and Propeller Directorate, FAA. Operators shall submit their requests through an FAA Principal Maintenance Inspector, who may concur or comment and then send it to the Manager, Boston Aircraft Certification Office.

Note 4: Information concerning the existence of approved alternative methods of compliance with this AD, if any, may be obtained from the Boston Aircraft Certification Office.

(e) Special flight permits may be issued in accordance with 14 CFR 21.197 and 21.199 to operate the helicopter to a location where the requirements of this AD can be accomplished.

(f) Identifying, removing and replacing the discs shall be done in accordance with Aircraft Braking Systems Corporation Alert Service Bulletin No. S76-32-A24, dated April 10, 2002, and Aircraft Braking Systems Corporation Alert Service Bulletin S76-32-A25, dated May 15, 2002. This incorporation by reference was approved by the Director of the Federal Register in accordance with 5 U.S.C. 552(a) and 1 CFR part 51. Copies may be obtained from Sikorsky Aircraft Corporation, Attn: Manager, Commercial Tech Support, 6900 Main Street, Stratford, Connecticut 06614, phone (203) 386-3001, fax (203) 386-5983. Copies may be inspected at the FAA, Office of the Regional Counsel, Southwest Region, 2601 Meacham Blvd., Room 663, Fort Worth, Texas; or at the Office of the Federal Register, 800 North Capitol Street, NW., suite 700, Washington, DC.

(g) This amendment becomes effective on August 25, 2003.

Issued in Fort Worth, Texas, on July 8, 2003.
Mark R. Schilling,
Acting Manager, Rotorcraft Directorate, Aircraft Certification Service.

[FR Doc. 03-17946 Filed 7-18-03; 8:45 am]

BILLING CODE 4910-13-P